DEPARTMENT OF HOUSING AND URBAN DEVELOPMENT

[Docket No. FR-5191-N-15]

Notice of Proposed Information Collection: Comment Request; Requirements for Single Family Mortgage Instruments

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: July 18, 2008.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202)402-8048.

FOR FURTHER INFORMATION CONTACT: Margaret E. Burns, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond, including the use of appropriate automated collection techniques or other forms of information technology, e.g., permitting electronic submission of responses.

This Notice also lists the following information:

Title of Proposal: Requirements For Single Family Mortgage Instruments.

OMB Control Number, if applicable: 2502-0404.

Description of the need for the information and proposed use:

FHA insures single-family mortgages and stipulates the specific provisions needed for mortgage instruments as required by statute and regulation. The regulations are found at 24 CFR 203.255(b)(3)—implement statutory and regulatory requirements. Accompanying documents required by the Secretary—states the requirements for applications for insurance involving mortgages originated under the Direct Endorsement program under 24 CFR 203.5. One requirement is for the mortgagee to submit to the Secretary, within 60 days after the date of closing of the loan or such additional time as permitted by the Secretary, properly completed documentation and certifications, including a certified copy of the mortgage and note executed upon forms which meet the requirements of the Secretary.

Agency form numbers, if applicable: None.

Estimation of the total number of hours needed to prepare the information collection including number of respondents, frequency of response, and hours of response: The number of burden hours is 4,500. The number of respondents is 9,000, the number of responses is 9,000, the frequency of response is on occasion, and the burden hour per response is 0.5.

Status of the proposed information collection: Extension of a currently approved collection.

Authority: The Paperwork Reduction Act of 1995, 44 U.S.C., Chapter 35, as amended.

Dated: May 12, 2008.
Frank L. Davis,
General Deputy Assistant Secretary for Housing—Deputy Federal Housing Commissioner.

[FR Doc. E8-11082 Filed 5-16-08; 8:45 am]

BILLING CODE 4210-67-P